DEPARTMENT OF THE INTERIOR

National Park Service

Long Walk National Historic Trail Feasibility Study, Draft Environmental Impact Statement, National Trails System—Intermountain Region, NM

AGENCY: National Park Service, Department of the Interior.

ACTION: Notice of Availability of the Draft Environmental Impact Statement for the Long Walk National Historic Trail Feasibility Study

SUMMARY: Pursuant to the National Environmental Policy Act of 1969, 42 U.S.C. 4332(2)(C), the National Park Service announces the availability of a Draft Environmental Impact Statement for the Long Walk National Historic Trail Feasibility Study, National Trails System—Intermountain Region, New Mexico.

Four alternatives and their respective environmental consequences are presented in this study. Under alternative A, the no-action alternative, current practices and policies would continue. A national historic trail would not be designated, and interpretation and protection of Long Walk-related events and resources would not be coordinated. Under alternative B Congress would designate two national historic trails (dual designations) to emphasize the unique removal experiences of each Tribe within the contextual history. An auto tour route would be established. Interpretation and education would emphasize the distinctive Tribal and individual removal histories. The Secretary of the Interior would administer the trails through partnerships, primarily with the Nescalero Apache Tribe and the Navajo Nation. Under alternative C one national historic trail would be designated, emphasizing the removal experiences common to both Tribes. An auto tour route would be established. Interpretation and education would emphasize overviews of the Long Walk events. The Secretary of the Interior would administer the trail through partnerships, primarily with the Nescalero Apache Tribe and Navajo Nation. Under alternative C Congress would provide a grant program to the Tribes focusing on interpretation and education projects and resource protection on Tribal lands. All decisions about strategy, level of protection, etc., would be made by the Tribes. A national historic trail would not be designated. No other alternatives were considered. This study does not identify a preferred alternative.

DATES: The National Park Service will accept comments on the Draft Environmental Impact Statement from the public for 60 days from the date the Environmental Protection Agency publishes the Notice of Availability. No public meetings are scheduled at this time.

ADDRESSES: Information will be available for public review and comment online at http://parkplanning.nps.gov in the office of the Superintendent, Aaron Mahr, National Trails System—Intermountain Region, National Park Service, P.O. Box 728, Santa Fe, New Mexico 87504-0728; (505) 988-6888.

FOR FURTHER INFORMATION CONTACT: Sharon A. Brown, National Trails System—Intermountain Region, National Park Service, P.O. Box 728, Santa Fe, New Mexico 87504-0728; (505) 988-6717.

SUPPLEMENTARY INFORMATION: If you wish to comment, you may submit your comments by any one of several methods. You may mail comments to Sharon A. Brown, National Trails System—Intermountain Region, National Park Service, P.O. Box 728, Santa Fe, New Mexico 87504-0728. You may also comment via the Internet at http://parkplanning.nps.gov. If you do not receive a confirmation from the system that we have received your Internet message, contact us directly at (505) 988-6717. Finally, you may hand-deliver comments to 1100 Old Santa Fe Trail, Santa Fe, New Mexico 87505. Before including your address, phone number, e-mail address, or other personal identifying information in your comment, you should be aware that your entire comment including your personal identifying information—may be made publicly available at any time. While you can ask us in your comment to withhold your personal identifying information from public review, we cannot guarantee that we will be able to do so.

Dated: March 16, 2009.
Michael O. Snyder,
Regional Director, Intermountain Region, National Park Service.

[FR Doc. E9-7956 Filed 4-9-09; 8:45 am]

BILLING CODE